DEPARTMENT OF LABOR

Employment and Training Administration

[TA-W-57,794]

Cognis Corporation, Cincinnati, OH; Notice of Affirmative Determination Regarding Application for Reconsideration

By letter dated October 28, 2005, the United Steelworkers of America, Local 14340, requested administrative reconsideration of the Department of Labor's Notice of Negative Determination Regarding Eligibility to Apply for Worker Adjustment Assistance, applicable to workers of the subject firm. The determination was signed on September 29, 2005. The Department's Notice of negative determination was published in the Federal Register on October 31, 2005 (70 FR 62345).

The negative determination was based on the findings that there was no shift of specialty chemical production abroad by the subject firm and no increased imports of specialty chemicals during the relevant period. Workers produce specialty chemicals, including fatty acids, glycerin, and ozone acids, and are not separately identifiable by product line.

The Department carefully reviewed the Union's request for reconsideration and, based on new information provided by the Union representative, has determined that the Department will conduct further investigation.

Conclusion

After careful review of the application, I conclude that the claim is of sufficient weight to justify reconsideration of the Department of Labor's prior decision. The application is, therefore, granted.

Signed at Washington, DC, this 29th day of November 2005.
Linda G. Poole,
Certifying Officer, Division of Trade Adjustment Assistance.

[FR Doc. E6-2971 Filed 3-1-06; 8:45 am]

BILLING CODE 4510-30-P